DEPARTMENT OF THE INTERIOR

Bureau of Land Management

[UT-050-1430-ET; UTU 50514]

Notice of Proposed Withdrawal Extension and Opportunity for Public Meeting; Utah

AGENCY: Bureau of Land Management, Interior.

ACTION: Notice.

SUMMARY: The Bureau of Land Management, has filed an application to extend Public Land Order No. 6543 for a 20-year period. This order withdrew public land from settlement, sale, location or entry under the general land laws, including the mining laws, to protect the Henry Mountain Administrative Site.

DATES: Comments and requests for a public meeting must be received by December 31, 2002.

ADDRESSES: Comments and meeting requests should be sent to the Field Office Manager, Richfield Field Office, 150 East 900 North, Richfield, Utah 84701.

FOR FURTHER INFORMATION CONTACT: Kay Erickson, Realty Specialist, Richfield Field Office, 150 East 900 North, Richfield, Utah 84701; 435-896-1515.

SUPPLEMENTARY INFORMATION: The Bureau of Land Management proposes to extend Public Land Order No. 6543 for an additional 20-year period. Public Land Order No. 6543, which expires on June 6, 2004, withdrew 41.21 acres from settlement, sale, location or entry under the general land laws, including the mining laws to protect the Bureau of Land Management's Henry Mountain Administrative Site.

All persons who wish to submit comments, suggestions, or objections in connection with the proposed withdrawal extension may present their views in writing, by the date specified above, to the Field Office Manager, Richfield Field Office, 150 East 900 North, Richfield, Utah 84701.

Notice is hereby given that an opportunity for a public meeting is afforded in connection with the proposed withdrawal extension. All interested persons who desire a public meeting for the purpose of being heard on the proposed withdrawal extension must submit a written request, by the date specified above, to the Field Office Manager, Richfield Field Office, 150 East 900 North, Richfield, Utah 84701. Upon determination by the authorized officer that a public meeting will be held, a notice of the time and place will be published in the Federal Register and a newspaper at least 30 days before the scheduled date of the meeting.

The application will be processed in accordance with the regulations set forth in 43 CFR 2300.

Dated: September 18, 2002.
Kent Hoffman,
Deputy State Director, Division of Lands and Minerals.

[FR Doc. 02-25048 Filed 10-1-02; 8:45 am]

BILLING CODE 4310-$$-M